DEPARTMENT OF COMMERCE

National Oceanic and Atmospheric Administration

[RTID 0648-XE926]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council.

DATES: The meetings will be held Tuesday, June 3 through Thursday, June 5, 2025. For agenda details, see SUPPLEMENTARY INFORMATION.

ADDRESSES: This meeting will be an in-person meeting with a virtual option. Council members, other meeting participants, and members of the public will have the option to participate in person at the Hilton Garden Inn Virginia Beach Oceanfront (3315 Atlantic Avenue, Virginia Beach, VA 23451) or virtually via Webex webinar. Webinar connection instructions and briefing materials will be available at: https://www.mafmc.org/briefing/june-2025.

Council address: Mid-Atlantic Fishery Management Council, 800 N. State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order (changes will be noted on the Council's website when possible.)

Tuesday, June 3rd

Spiny Dogfish Accountability Measures Modification Framework: Framework Meeting #1

Review draft alternatives

Adopt range of alternatives for further development and analysis

Consider merging 2026-2027 specifications into Framework

2026-2028 Blueline Tilefish Specification

Review of 2025 Southeast data, Assessment, and Review 92 (SEDAR 92) operational assessment (SEFSC staff)

Review recommendations from the Advisory Panel, Scientific and Statistical Committee (SSC), Monitoring Committee, and staff

Adopt specifications for 2026-2028

Review and revise 2026-2028 commercial and recreational measures if necessary

2026 Golden Tilefish Specifications

Review recommendations from the Advisory Panel, SSC, Monitoring Committee, and staff

Review previously adopted 2026 specifications and management measures, and recommend changes if necessary

NEFSC Cost Survey for Commercial Fishing Businesses Presentation (Gregory Ardini, Economist, NOAA Fisheries)

Update on research projects using data from the 2023 Northeast Commercial Fishing Cost Survey

Atlantic Large Whale Take Reduction Plan Rulemaking (GARFO Protected Resources Division Staff)

Update from NOAA Fisheries on anticipated Take Reduction Team activities and timeline

Wednesday, June 4th

Unmanaged Commercial Landings Report

Review and provide feedback

2025 Modular Ocean Model (MOM) 6 Presentation

(Vincent Saba, NEFSC Ecosystem Dynamics & Assessment Branch)

2025 ocean temperature forecast and ten year outlook

White Paper on Separate OFLs an ABCs for Summer Flounder, Scup, and Black Sea Bass

Review progress and provide guidance to SSC sub-group on next steps

Offshore Wind Monitoring Standards Update (Northeast Fisheries Science Center staff: Elizabeth Methratta, Chris Orphanides, and Angela Silva)

Update on NOAA Fisheries Offshore Wind monitoring standards

———- LUNCH———-

2026-2028 Chub Mackerel Specifications

Review recommendations from the Advisory Panel, SSC, Monitoring Committee, and staff

Adopt specifications for 2026-2028

2026 Butterfish Specifications

Review recommendations from the Advisory Panel, SSC, Monitoring Committee, and staff

Review previously adopted 2026 specifications and management measures, and recommend changes if necessary

2026 Longfin Squid Specifications

Review recommendations from the Advisory Panel, SSC, Monitoring Committee, and staff

Review previously adopted 2026 specifications and management measures, and recommend changes if necessary

2026 Atlantic Surfclam and Ocean Quahog Specifications

Review recommendations from the Advisory Panel, SSC, and staff

Review previously adopted 2026 specifications and management measures, and recommend changes if necessary

Gear Marking/On-Demand Gear Framework

Update from PDT/FMAT

Acknowledgement of Outgoing Council Members

Thursday, June 5th

Business Session

Committee Reports (SSC); Executive Director's Report (Discuss Council response to Executive Order on Restoring American Seafood Competitiveness); Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

Authority: 16 U.S.C. 1801 et seq.

Dated: May 15, 2025.
Rey Israel Marquez,
Acting Deputy Director, Office of Sustainable Fisheries, National Marine Fisheries Service.

[FR Doc. 2025-09020 Filed 5-19-25; 8:45 am]

BILLING CODE 3510-22-P